ENVIRONMENTAL PROTECTION AGENCY

40 CFR Part 52

[EPA-R08-OAR-2011-0851, FRL-9673-6]

Approval and Promulgation of Implementation Plans; State of Montana; State Implementation Plan and Regional Haze Federal Implementation Plan

AGENCY: Environmental Protection Agency.

ACTION: Proposed rule; corrections.

SUMMARY: EPA is correcting a proposed rule that appeared in the Federal Register on April 20, 2012. The proposed rule includes the proposed Federal Implementation Plan (FIP) to address regional haze in the State of Montana and the proposed approval of revisions to the Montana SIP submitted by the State of Montana through the Montana Department of Environmental Quality on February 17, 2012. We are correcting some typographical errors and clarifying some information with this document.

FOR FURTHER INFORMATION CONTACT: Vanessa Hinkle, EPA, Region 8, (303) 312-6561.

SUPPLEMENTARY INFORMATION: Throughout this document, wherever “we” or “our” is used it means the EPA.

On April 20, 2012, EPA published the proposed rule titled “Approval and Promulgation of Implementation Plans; State of Montana; State Implementation Plan and Regional Haze Federal Implementation Plan” (77 FR 23988). See docket number EPA-R08-OAR-2011-0851. The following corrections are made to the proposed rule:

1. On page 23992, Footnote 7 is amended to read as follows: “Guidance for Estimating Natural Visibility Conditions Under the Regional Haze Rule, September 2003, EPA-454/B-03-005, available at http://www.epa.gov/ttncaaa1/t1/memoranda/rh_envcurhr_gd.pdf, (hereinafter referred to as “our 2003 Natural Visibility Guidance”); and Guidance for Tracking Progress Under the Regional Haze Rule, (September 2003, EPA-454/B-03-004, available at http://www.epa.gov/ttncaaa1/t1/memoranda/rh_tpurhr_gd.pdf, (hereinafter referred to as our “2003 Tracking Progress Guidance”).”

2. On page 24002, Footnote 27 is amended to read as follows: “ “Modeling Protocol: Montana Regional Haze Federal Implementation Plan (FIP) Support”, University of North Carolina, Contract EP-D-07-102, November 21, 2011.”

3. On page 24004, Footnote 40 is amended to read as follows: “Ash Grove Update March 2012 (Ash Grove's letter indicates a mean of 14.4 lbs./ton clinker and a 99th percentile of 18.6 lb NOX/ton clinker. This is significantly greater than the 2006 emissions shown in Table 10 for the Midlothian kilns.).”

4. On pages 24013 and 24014, Footnote 75 is amended to read as follows: “BART analysis by Holcim for Trident Cement Plant, Three Forks, MT (“Holcim Initial Response”) (July 6, 2007); Responses to EPA comments on BART analysis for Trident Cement Plant (“Holcim 2008 Responses”) (Jan. 25, 2008); BART analysis by Holcim for low NOX burners for Trident Cement Plant (“Holcim Additional Response, June 2009”) (June 9, 2009); Response to EPA letter regarding Confidential Business Information (CBI) claims on BART analysis for Trident Cement Plant (“Holcim Additional Response, August 2009”) (Aug. 12, 2009); Response to EPA request for NOX and SO2 emissions data for 2008-2010 (“Holcim 2011 Response”) (June 30, 2011); Response to EPA request for emissions and clinker production for Holcim pursuant to CAA section 114(a) (“Holcim 2012 Response”) (Mar. 2, 2012).”

5. On page 24014, in the first column, the first sentence of the second paragraph is amended to read, “We identified that the following previously described NOX control technologies are available: LNB, MKF, FGR, SNCR, and SCR.”

6. On page 24018, in Table 52, the annual emissions reduction for fuel switching option 2 is amended to 31.1 tpy, the remaining annual emissions for fuel switching option 2 is amended to 19.1 tpy, the annual emissions reduction for fuel switching option 1 is amended to 16.1 tpy, and the remaining annual emissions for fuel switching option 1 is amended to 34.1 tpy.

7. On page 24020, in Table 60, the emissions reductions from fuel switching option 1 are amended to 16.1 tpy, the average cost effectiveness for fuel switching option 1 is amended to 14,938 dollars per ton, the emissions reduction from fuel switching option 2 is amended to 31.1 tpy, and the average cost effectiveness for fuel switching option 2 is amended to 21,211 dollars per ton.

8. On page 24021, in Table 63, the average cost effectiveness for fuel switching option 2 is amended to 21,211 dollars per ton, and the average cost effectiveness for fuel switching option 1 is amended to 14,938 dollars per ton.

9. On page 24023, Footnote 113 is amended to read as follows: “Baseline emissions were determined by averaging the annual emissions from 2008 through 2010 as reported to the CAMD database available at http://camddataandmaps.epa.gov/gdm/.”

10. On page 24024, Footnote 123 is amended to read as follows: “EPA's CCM Sixth Edition, January 2002, EPA/452/B-02-001, Section 1, Chapter 2, p. 2-21.”

11. On page 24025, Footnote 130 is amended to read as follows: “ICAC February 2008, p. 8.”

12. On page 24031, Footnote 150 is amended to read as follows: “Baseline emissions were determined by averaging the annual emissions from 2008 to 2010 as reported to the CAMD database available at http://camddataandmaps.epa.gov/gdm/.”

13. On page 24059, in the first column, the second paragraph is amended to read, “We are eliminating the four refineries from further consideration as a result of consent decrees entered into by the owners. Under these consent decrees, emissions have been reduced sufficiently after the 2002 baseline so that the Q/D for each facility is below 10. Specifically, ExxonMobil's emissions in 2009 of NOX and SO2 were 1,019 tpy, resulting in a Q/D of 6. Cenex's emissions in 2009 of NOX and SO2 were 727 tpy, resulting in a Q/D of 5. Conoco's emissions in 2009 of NOX and SO2 were 1,087 tpy, resulting in a Q/D of 8. Montana Refining's emissions in 2009 of NOX and SO2 were 122 tpy, resulting in a Q/D of 2. The consent decrees are available in the docket.”

14. On page 24063, in the first column, the first sentence of the last paragraph is amended to read, “We are relying on CELP's estimates that SCR would take approximately 26 months to install and that SNCR would take 16 to 24 weeks to install.²³⁹”

15. On page 24064, the title for the last column of Table 162 is amended to read, “Remaining emissions (tpy).”

16. On page 24070, in the third column, the fourth sentence of the second paragraph is amended to read, “This control option is functionally equivalent to LSFO in terms of concept and control efficiency.”

17. On page 24071, in the first column, the second full sentence of the first paragraph is amended to read, “We used 85% control for this analysis.”

18. On page 24071, in the first column, the sixth sentence of the second paragraph is amended to read, “We used 70% control for this analysis (about a 10% improvement over existing controls).”

19. On page 24074, in the third column, the first sentence of the fifth paragraph is amended to read, “We identified that the following technologies to be available: extending the Claus reaction into a lower temperature liquid phase (the Sulfreen® process) and tail gas scrubbing (Wellman-Lord, SCOT, and traditional FGD processes).”

20. On page 24074, in the third column, the first sentence of the sixth paragraph is amended to read, “In the Sulfreen® process, the Claus reaction is extended at low temperatures (260 to 300 °F) to recover SO2 and H2S in the tail gas.”

21. On page 24075, in the third column, the third paragraph is amended to read, “Both the SCOT and Sulfreen® processes are feasible; however, in the BART Guidelines, EPA states that it may be appropriate to eliminate from further consideration technologies that provide similar control levels at higher cost. See 70 FR 39165 (July 6, 2005). We think it is appropriate to do the same for RP determinations. In this case, Sulfreen® systems reportedly can achieve 98% to 99.5% sulfur recovery efficiency while SCOT can reportedly achieve sulfur recovery as high as 99.8% to 99.9%. The cost is higher for the Sulfreen® system when compared to the SCOT process. Because the SCOT process is more effective and costs less than the Sulfreen® system, the Sulfreen® system was not considered further.”

22. On page 24076, in the second column, the first sentence of the third paragraph is amended to read, “Plum Creek Manufacturing's Columbia Falls Operation, in Columbia Falls, Montana consists of a sawmill, a planer, and plywood and medium density fiberboard (MDF) processes.”

23. On page 24097, the following information is added to the third column after the second paragraph, “K. Congressional Review Act

The Congressional Review Act, 5 U.S.C. 801 et seq., as added by the Small Business Regulatory Enforcement Fairness Act of 1996, does not apply because this action is not a “major rule” as defined by 5 U.S.C. 804(2).”

24. On page 24097, in the third column, under Subpart BB—Montana, the first line of number three is amended to read, “3. Add section 52.1395 to read as follows:” On page 24097, in the third column, under Subpart BB—Montana, the first line of number three is amended to read, “3. Add section 52.1395 to read as follows:”

25. On page 24098, section 52.1396 (c)(1) is amended to read, “The owners/operators of EGUs subject to this section shall not emit or cause to be emitted PM, SO2 or NOX in excess of the following limitations, in pounds per million British thermal units (lb/MMBtu), averaged over a rolling 30-day period for SO2 and NOX:”

26. On page 24098, section 52.1396 (c)(2) is amended to read, “The owners/operators of cement kilns subject to this section shall not emit or cause to be emitted PM, SO2 or NOX in excess of the following limitations, in pounds per ton of clinker produced, averaged over a rolling 30-day period for SO2 and NOX:”

27. On page 24099, the following is added to section 52.1396 (g), “(5) All particulate matter stack test results.”

28. On page 24099, section 52.1396 (h)(4) is amended to read, “(4) Owner/operator of each unit shall submit results of any particulate matter stack tests conducted for demonstrating compliance win the particulate matter BART limits in section (c) above, within 60 days after completion of the test.”

29. On page 24100, section 52.1396 (h)(6) is amended to read, “(6) Any other records required by 40 CFR part 60, Subpart F, or 40 CFR part 60, Appendix F, Procedure 1.”

30. On page 24100, section 52.1396 (i)(5) is added to read, “(5) Owner/operator of each unit shall submit semi-annual reports of any excursions under the approved CAM plan in accordance with the schedule specified in the source's title V permit.”

List of Subjects in 40 CFR Part 52

Environmental protection, Air pollution control, Intergovernmental relations, Nitrogen dioxide, Particulate matter, Reporting and recordkeeping requirements, Sulfur oxides, Volatile organic compounds.

Dated: May 8, 2012.
James B. Martin,
Regional Administrator, Region 8.

[FR Doc. 2012-11967 Filed 5-16-12; 8:45 am]

BILLING CODE 6560-50-P